DEPARTMENT OF HEALTH AND HUMAN SERVICES

Health Resources and Services Administration

Maternal and Child Health Federal Set-Aside Program; Project Grants; Hana Health Initiative for Children and Adolescents

AGENCY: Health Resources and Services Administration, HHS.

ACTION: Notice of grant award.

SUMMARY: The Maternal and Child Health Bureau (MCHB), Health Resources and Services Administration (HRSA), is awarding a grant for $1,000,000 in fiscal year (FY) 2001 to the Hana Community Health Center in Hana, Hawaii. The grant supports expansion of health services to children and adolescents, with a focus on addressing special needs of Native Hawaiians in the community of Hana. The award was made from funds appropriated under Public Law 106-554 (HHS Appropriation Act for FY 2001). This project is a Special Project of Regional and National Significance (SPRANS) authorized by section 501(a)(2) of the Social Security Act, the Maternal and Child Health Federal Set-Aside Program.

Purpose: HRSA determined that it was necessary to provide funds to the community of Hana for expanded emergency, health and related services to children and adolescents in Hana, with services to have a Native Hawaiian focus. The primary source of health care for Hana is the Hana Community Health Center. To seek another source of health care residents must travel two and one-half to three hours, one way, to the main town of Wailuku.

In FY 2001, community surveys indicated a continuing need for funds for the on-site health services supported through this project, which was initiated in 1999 through MCHB's Emergency Medical Services for Children program. Concerns were raised about the need for quality primary and related health care services and the maintenance of 24 hour coverage, especially emergency care. As this is an isolated community with limited health and human services there was a desire to expand the services of the Hana Community Health Center. Maternal and Child Health SPRANS funds were designated to continue to address these services. This project reflects input and participation from the State of Hawaii and the Hana-based community health center and service providers. It provides a comprehensive strategy for: (1) Addressing service delivery gaps and barriers; (2) expanding health care and related services to the children and adolescents of Hana; and (3) responding to the needs of the Native Hawaiian population in Hana.

Availability of Funds: Approximately $1,000,000 was made available to support this project for the first year of a planned three-year project/budget period, beginning in FY 2001, and extending from September 27, 2001 through September 26, 2004, subject to the availability of appropriations.

Other Award Information: This program is not subject to the provisions of Executive Order 12372, Intergovernmental Review of Federal programs (as implemented by 45 CFR part 100). The Catalog of Federal Domestic Assistance (CFDA) number for this project is 93.110M.

FOR FURTHER INFORMATION CONTACT: Peter S. Conway, Division of Child, Adolescent and Family Health, Maternal and Child Health Bureau, HRSA, 5600 Fishers Lane, Room 18A-30, Rockville, MD 20857, 301-443-2250.

Dated: October 29, 2001.
Elizabeth M. Duke,
Acting Administrator.

[FR Doc. 01-27646 Filed 11-2-01; 8:45 am]

BILLING CODE 4165-15-P